CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed Volunteer Generation Fund (VGF) Grantee Progress Report (GPR). All VGF grantees are required to complete a GPR that is due in October, to complete an abbreviated mid-year GPR due in April, and to complete a final GPR within 90 days of grant closeout. The GPR provides information for CNCS staff to monitor grantee progress and to respond to requests from Congress and other stakeholders.

Copies of the information collection request can be obtained by contacting the office listed in the Addresses section of this notice.

DATES: Written comments must be submitted to the individual and office listed in the ADDRESSES section by July 11, 2014.

ADDRESSES: You may submit comments, identified by the title of the information collection activity, by any of the following methods:

(1) By mail sent to: Corporation for National and Community Service, AmeriCorps State and National, Attention Carla Ganiel, Senior Program and Project Specialist, Room 9517E, 1201 New York Avenue NW., Washington, DC, 20525.

(2) By hand delivery or by courier to the CNCS mailroom at Room 8100 at the mail address given in paragraph (1) above, between 9:00 a.m. and 4:00 p.m. Eastern Time, Monday through Friday, except Federal holidays.

(3) By fax to: 202-606-3476, Attention: Carla Ganiel, Senior Program and Project Specialist.

(4) Electronically through www.regulations.gov.

Individuals who use a telecommunications device for the deaf (TTY-TDD) may call 1-800-833-3722 between 8:00 a.m. and 8:00 p.m. Eastern Time, Monday through Friday.

FOR FURTHER INFORMATION CONTACT: Carla Ganiel, 202-606-6773, or by email at cganiel@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

All VGF grantees complete the GPR, mid-year GPR and a final GPR within 90 days of grant closeout, which provide information for CNCS staff to monitor grantee progress and to respond to requests from Congress and other stakeholders. The information is collected electronically through the eGrants system.

Current Action

This is a new information collection request. Grantees previously reported using the CNCS Universal Application.

Type of Review: New.

Agency: Corporation for National and Community Service.

Title: Volunteer Generation Fund Grantee Progress Report.

OMB Number: None.

Agency Number: None.

Affected Public: Volunteer Generation Fund grantees.

Total Respondents: 25.

Frequency: Biannual with one additional final report required at closeout of the grant.

Average Time per Response: 9 hours per submission.

Estimated Total Burden Hours: 450.

Total Burden Cost (capital/startup): None.

Total Burden Cost (operating/maintenance): None.

Comments submitted in response to this notice will be summarized and/or included in the request for Office of Management and Budget approval of the information collection request; they will also become a matter of public record.

Dated: May 6, 2014.
William Basl,
Director, AmeriCorps State and National.

[FR Doc. 2014-10833 Filed 5-9-14; 8:45 am]

BILLING CODE 6050-28-P